DEPARTMENT OF THE INTERIOR

Bureau of Reclamation

[INT-FES-06-09]

Platte River Recovery Implementation Program

AGENCY: Bureau of Reclamation, Interior.

ACTION: Notice of availability of the final environmental impact statement.

SUMMARY: Pursuant to the National Environmental Policy Act (NEPA) of 1969 (as amended), the Bureau of Reclamation (Reclamation) and the U.S. Fish and Wildlife Service (Service) as joint lead agencies have prepared a final programmatic environmental impact statement (FEIS) for the Platte River Recovery Implementation Program (Program). This FEIS also serves as the Biological Assessment necessary for consultation under section 7 of the Endangered Species Act (ESA). In 1997, the States of Nebraska, Wyoming, and Colorado and the U.S. Department of the Interior (Interior) signed a Cooperative Agreement for Platte River Research and Other Efforts Relating to Endangered Species Habitats Along the Central Platte River, Nebraska (Cooperative Agreement). In this document, the signatories agreed to pursue a basinwide, cooperative approach to improve and maintain habitat for four threatened and endangered species which use the Platte River in Nebraska: whooping crane (Grus americana), interior least tern (Sterna antillarum), piping plover (Charadrius melodus), and pallid sturgeon (Scaphirhynchus albus). This Program will provide ESA compliance for Service and Reclamation water projects in the Platte River Basin for the four target species, as well as for other participating projects which require Federal permits.

DATES: Interior will not make a decision on the proposed action until at least 30 days after release of the Final EIS. After the 30-day waiting period, a Record of Decision (ROD) will be completed. The ROD will state the action that will be implemented and will discuss all factors leading to the decision.

ADDRESSES: Written comments on, or requests for copies of, the FEIS should be addressed to Platte River EIS Office (PL-100), PO Box 25007, Denver, Colorado, 80225-0007; telephone: (303) 445-2096, or by sending an e-mail request to platte@prs.usbr.gov. The document is available on the Internet at http://www.platteriver.org. Copies of the FEIS are also available for public inspection at the locations listed under the Supplementary Information section.

FOR FURTHER INFORMATION CONTACT: Joy Knipps, Platte River EIS Office at the above address, or by telephone at (303) 445-2108, or e-mail at jknipps@prs.usbr.gov.

SUPPLEMENTARY INFORMATION: Reclamation and the Service have prepared this FEIS to analyze the impacts of the First Increment (13 years) of the proposed Program, developed jointly by the States of Nebraska, Wyoming, and Colorado, water users, environmental organizations and the Department, to benefit the target species and their habitat in the Platte River Basin and to provide compliance with the ESA for certain historic and future water uses in each State. The habitat objectives of the proposed Program include: improving flows in the Central Platte River through water re-regulation and conservation/supply projects; and protecting, restoring, and maintaining at least 10,000 acres of habitat in and along the Central Platte River area between Lexington and Chapman, Nebraska.

A draft EIS was released for public review and comment January 23, 2004. The comment period ended September 20, 2004. All public comments have been addressed in the FEIS.

The FEIS analyzes the impacts of four alternatives to implement the Program. One alternative, the Governance Committee Alternative, has been selected as the Department's preferred alternative. The programmatic FEIS focuses on impacts that the Program may have on hydrology, water quality, land, target species and their habitat, other species, hydropower, recreation, economics, and social and cultural resources. Subsequent NEPA and ESA documents required for implementation of specific Program actions will be tiered off of this document.

FEIS available for public inspection at the following locations:

• Bureau of Reclamation, Public Affairs Office, 1849 C Street, NW., Washington, DC 20240.

• Bureau of Reclamation, Platte River EIS Office, 44 Union Boulevard, Suite 100, Lakewood, CO 80228.

• Bureau of Reclamation, Great Plains Regional Office, 316 North 26th Street, Billings, MT 59101.

• Bureau of Reclamation, Eastern Colorado Area Office, 11056 West County Road 18E, Loveland, CO 80537-9711.

• U.S. Fish and Wildlife Service, 203 W. 2nd Street, Grand Island, NE 68801.

• U.S. Fish and Wildlife Service, 4000 Airport Parkway, Cheyenne, WY 82001.

Libraries:

• Omaha Public Library, 215 South 15th Street, Omaha, NE 68102.

• Scottsbluff Public Library, 1809 Third Avenue, Scottsbluff, NE 69361.

• University of Nebraska at Kearney, Calvin T. Ryan Library, 2508 11th Avenue, Kearney, NE 68849-2240.

• University of Nebraska at Lincoln, Love Memorial Library, 13th and R Streets, Lincoln, NE 68588-4100.

• Grand Island Public Library, 211 North Washington Street, Grand Island, NE 68801.

• North Platte Public Library, 120 West 4th Street, North Platte, NE 69101.

• Goodall City Library, 203 West A Street, Ogallala, NE 69153.

• Natrona County Public Library, 307 East 2nd Street, Casper, WY 82601.

• Wyoming State Library, 2301 Capitol Avenue, Cheyenne, WY 82002-0002.

• University of Wyoming, George W. Hopper Law Library, 16th and Gibbon Streets, Laramie, WY 82071-3035.

• Goshen County Library, 2001 East A Street, Torrington, WY 82240.

• Carbon County Government Public Library, Rawlins, WY 82301.

• Central Wyoming College Library, 2660 Peck Avenue, Riverton, WY 82501-2273.

• University of Colorado, Boulder, Norlin Library, 1720 Pleasant Street, Boulder, CO 80309-0184.

• Denver Public Library, 10 West 14th Avenue Parkway, Denver, CO 80204-2731.

• Colorado State University, William E. Morgan Library, Fort Collins, CO 80523-1019.

• University of Northern Colorado, James A. Michener Library, 501 20th Street, Greeley, CO 80639-0091.

• Jefferson County Public Library, Lakewood Library, 10200 West 20th Avenue, Lakewood CO 80215-1402.

• Julesburg Public Library, 320 Cedar Street, Julesburg, CO 80737-1545.

• Sterling Public Library, 420 North 5th Street, Sterling, CO 80751-0400.

• Loveland Public Library, 300 North Adams, Loveland, CO 80537-5754.

• Fort Morgan Public Library, 414 Main Street, Fort Morgan, CO 80701-2209.

• Garfield County Public Library, 413 9th Street, Glenwood Springs, CO 81601-3607.

Public Disclosure Statement

Comments received in response to this notice will become part of the administrative record for this project and are subject to public inspection. Comments, including names and home addresses of respondents, will be available for public review. Individual respondents may request that Reclamation withhold their home address from public disclosure, which will be honored to the extent allowable by law. There also may be circumstances in which Reclamation would withhold a respondent's identity from public disclosure, as allowable by law. If you wish to have your name and/or address withheld, you must state this prominently at the beginning of your comment. Reclamation will make all submissions from organizations or businesses and from individuals identifying themselves as representatives or officials of organizations or businesses available for public disclosure in their entirety.

Dated: May 18, 2006.
Willie R. Taylor,
Director, Office of Environmental Policy and Compliance.

[FR Doc. E6-7903 Filed 5-23-06; 8:45 am]

BILLING CODE 4310-MN-P